DEPARTMENT OF AGRICULTURE

Forest Service

Helena-Lewis and Clark National Forest; Montana; Telegraph Vegetation Project

AGENCY: Forest Service, Agriculture (USDA).

ACTION: Notice of intent to prepare a draft supplemental environmental impact statement.

SUMMARY: The Helena-Lewis and Clark National Forest, Helena Ranger District, Montana, intends to prepare a draft supplemental environmental impact statement for the Telegraph Vegetation Project. The Telegraph Vegetation Project was approved by Helena-Lewis and Clark Forest Supervisor William Avey on January 9, 2017. When analyzing the wildland urban interface within the Telegraph Vegetation project, the Forest used the Region 1 Healthy Forest Restoration Act wildland urban interface boundary definition, rather than the 2005 Powell County Community Wildland Protection Plan, which defined the wildland urban interface differently. In addition, the Forest conducted 8.4 acres of treatments in lynx habitat under the assumption they were located in the wildland urban interface. However, they were outside of the 2005 Powell County Community Protection Plan wildland urban interface boundary. To address these discrepancies, a supplemental environmental impact statement is being prepared to assess what action should be taken. The draft supplemental environmental impact statement will be circulated.

DATES: Comments concerning the scope of the analysis must be received by May 2, 2022. The draft supplemental environmental impact statement is expected April 2022 and the final supplemental environmental impact statement is expected June 2022.

ADDRESSES: Send written comments to Telegraph Vegetation Project SEIS, Helena District Ranger, 2880 Skyway Drive, Helena, MT 59602. Comments may also be sent electronically to Comments-northern-helena-helena@usda.gov, with “Telegraph Vegetation Project SEIS” in the subject line or via facsimile to (406) 449-5740.

FOR FURTHER INFORMATION CONTACT: Kathy Bushnell, Helena District Ranger, (406) 495-3747 or katherine.bushnell@usda.gov. Additional information concerning this project may be obtained at https://www.fs.usda.gov/helena.

Individuals who use telecommunication devices for the deaf/hard-of-hearing (TDD) may call the Federal Relay Service (FRS) at 1-800-877-8339, 24 hours a day, every day of the year, including holidays.

SUPPLEMENTARY INFORMATION: The Telegraph Vegetation Project Record of Decision was signed by Helena-Lewis and Clark Forest Supervisor William Avey on January 9, 2017 and with it, the Final Environmental Impact Statement was released to the public. The District Court for the Federal District of Montana rejected a legal challenge to the Telegraph Vegetation Project and that ruling was appealed to the Ninth Circuit Court of Appeals where the case was affirmed in part and remanded without vacatur to allow the Forest Service to reconsider the scope of the project-area wildland-urban interface. Before the Court issued a decision, a discrepancy was identified between the wildland urban interface boundary used for project analysis and the 2005 Powell County Community Protection Plan wildland urban interface boundary. This discrepancy resulted in 50 acres being analyzed as within the wildland urban interface when they were in fact outside of the 2005 Powell County's Community Protection Plan's wildland urban interface boundary. In September of 2019, the Helena-Lewis and Clark National Forest completed pre-commercial thinning on Telegraph units 102 and 107 which contained 8.4 acres of early stand or stand initiation lynx habitat that were within the project wildland urban interface but outside the wildland urban interface under the 2005 Powell County Community Protection Plan.

Purpose and Need for Action

The original purpose, to improve the resiliency, diversity, and reforestation within the Telegraph Vegetation Project, area remains the same. The Draft Supplemental Environmental Impact Statement will update, review, and correct the project analysis and evaluate making changes to the project, including dropping planned treatment acres that are outside the Powell County wildland urban interface and droppings treatment acres to protect lynx habitat within the lynx analysis unit.

Proposed Action

The original proposed action for the Telegraph project remains the same; the 2017 Record of Decision is not vacated nor withdrawn. The draft supplemental environmental impact statement will update and review the effects of the wildland urban interface boundary differences as well as the treatment of 8.4 acres of pre-commercial thinning within lynx habitat that did not fall under the Northern Rockies Lynx Management Direction exemption. In addition, the draft supplemental environmental impact statement will analyze removing units 129 and 164 from treatment, which combined amounts to 30.9 acres. These units, 129 and 164, are located within the same lynx analysis unit as the 8.4 acres of precommercial thinning.

Impacts Under Review

The intent of the draft supplemental environmental impact statement is to review, update, and evaluate dropping treatment units which were analyzed under the Final Environmental Impact Statement. Therefore, the effects of the proposed action are expected to be less than originally analyzed.

Responsible Official

Helena-Lewis and Clark Forest Supervisor.

Scoping Process

A notice of intent published on November 12, 2009 initiated the scoping process for the Telegraph Vegetation Project. The start of a 30-day scoping period began on November 13, 2009. The Project was re-scoped in July of 2012 and a corrected Notice of Intent was published on July 20, 2012. In accordance with 40 CFR 1502.9(c)(4), no scoping will be conducted for this supplemental environmental impact statement.

The Draft Supplemental Environmental Impact Statement will be available for public comment as required by 40 CFR 1503.1. The Draft Supplemental Environmental Impact Statement will be announced for public review and comment in Federal Register, on the Forest's website https://www.fs.usda.gov/projects/helena/landmanagement/projects, and in the Helena Independent Record.

Authority

This Notice of Intent is being published pursuant to regulation (40 CFR 1508.22) implementing the procedural provision of the National Environmental Policy Act of 1969, as amended (42 U.S.C. 4321 et seq.).

Nature of Decision To Be Made

The January 2017 Record of Decision is not being vacated. The Draft Supplemental Environmental Impact Statement will supplement the Telegraph Vegetation Project Final Environmental Impact Statement. The Forest will solicit public comment on its suggested remedy and the associated effects of using units 129 and 164 to remediate the treatment of 8.4 acres within lynx habitat.

Dated: March 11, 2022.
Barnie Gyant,
Associate Deputy Chief, National Forest System.

[FR Doc. 2022-06882 Filed 3-31-22; 8:45 am]

BILLING CODE 3411-15-P